DEPARTMENT OF TRANSPORTATION

Federal Aviation Administration

[Docket No.: FAA-2024-1586]

Draft Advisory Circular for the Type Certification of Powered-Lift

AGENCY: Federal Aviation Administration (FAA), Department of Transportation (DOT).

ACTION: Notice of availability, request for comments; extension of comment period.

SUMMARY: On June 12, 2024, the FAA published in the Federal Register a notice of availability for draft Advisory Circular (AC) 21.17-04, “Type Certification of Powered-lift”. The comment period for this document expires on August 12, 2024. By letter dated August 1, 2024, the General Aviation Manufacturers Association (GAMA) requested that the FAA extend the public-comment period deadline to September 12, 2024. GAMA stated in their request that providing more time to comment would allow member organizations to conduct a more thorough review and contribute constructively to the proposed criteria facilitating the development of robust, harmonized standards that maximize safety for powered-lift operations.

DATES: The comment period for the document published June 12, 2024, at 89 FR 50042, is extended. Comments should be received on or before September 12, 2024.

ADDRESSES: Send comments identified with “Type Certification—Powered-lift” and docket number FAA-2024-1586 using any of the following methods:

• Federal eRulemaking Portal: Go to www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments received without change to www.regulations.gov, including any personal information the commenter provides. DOT's complete Privacy Act Statement can be found in the Federal Register published on April 11, 2000 (65 FR 19477-19478), as well as at DocketsInfo.dot.gov.

FOR FURTHER INFORMATION CONTACT: James Blyn, Product Policy Management: Airplanes, GA, Emerging Aircraft, and Rotorcraft AIR-62B, Policy and Standards Division, Aircraft Certification Service, Federal Aviation Administration, 10101 Hillwood Parkway, Fort Worth, Texas 76177; telephone (817) 222-5762; email james.blyn@faa.gov.

SUPPLEMENTARY INFORMATION:

Comments Invited

The FAA invites the public to submit comments on the draft AC, as specified in the ADDRESSES section. Commenters should include the subject line “Type Certification—Powered-lift” and the docket number FAA 2024-1586 on all comments submitted to the FAA. The most helpful comments will reference a specific portion of the draft document, explain the reason for any recommended change, and include supporting data. The FAA will consider all comments received on or before the closing date before issuing the final advisory circular. The FAA will also consider late-filed comments if it is possible to do so without incurring expense or delay.

Extension of the Comment Period

The FAA recognizes that the public will benefit from adequate time to review the draft AC. Therefore, the FAA is extending the comment period for an additional 31 days to September 12, 2024.

You may examine the draft advisory circular on the agency's public website and in the docket as follows:

• At www.regulations.gov in Docket FAA-2024-1586.

• At www.faa.gov/aircraft/draft_docs/.

Issued in in Kansas City, Missouri, on August 6, 2024.
Patrick R. Mullen,
Manager, Technical Policy Branch, Policy and Standards Division, Aircraft Certification Service.

[FR Doc. 2024-17720 Filed 8-8-24; 8:45 am]

BILLING CODE 4910-13-P